ENVIRONMENTAL PROTECTION AGENCY

[EPA-HQ-OAR-2003-0041-0008; FRL 9531-4]

Information Collection Request Submitted to OMB for Review and Approval; Comment Request; RadNet (Renewal)

AGENCY: Environmental Protection Agency (EPA).

ACTION: Notice.

SUMMARY: The Environmental Protection Agency has submitted an information collection request (ICR), “RadNet” (EPA ICR No. 0877.11, OMB Control No. 2060-0015) to the Office of Management and Budget (OMB) for review and approval in accordance with the Paperwork Reduction Act (44 U.S.C. 3501 et seq.). This is a proposed extension of the ICR, which is currently approved through June 30, 2013. Public comments were previously requested via the Federal Register 78 FR 11171 on February 15, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 22, 2013.

ADDRESSES: Submit your comments, referencing Docket ID Number EPA-HQ-OAR-2003-0041-0008 to (1) EPA online using www.regulations.gov (our preferred method) or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Charles M. Petko, Office of Radiation and Indoor Air (ORIA), National Analytical Radiation Environmental Laboratory (NAREL), 540 South Morris Avenue, Montgomery, Alabama 36115-2601. TEL: 334-270-3411; FAX Number: 334-270-3454; and email address: petko.charles@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: RadNet is a national network of stations collecting sampling media that include air, precipitation, drinking water, and milk. Samples are sent to EPA's National Air and Radiation Environmental Laboratory (NAREL) in Montgomery, Alabama, where they are analyzed for radioactivity. RadNet provides emergency response/homeland security and ambient monitoring information on levels of environmental radiation across the nation. All stations, usually operated by state and local personnel, participate in RadNet voluntarily. Station operators complete information forms that accompany the samples. The forms request descriptive information pertaining to sample location, e.g., sample type, sample location, length of sampling period, and volume represented.

Form Numbers:

5900-23 RadNet Equipment and Supply Request Form.

5900-24 RadNet Air Particulate Sample Report.

5900-27 RadNet Precipitation Report.

5900-28 RadNet Pasteurized Milk Report.

5900-29 RadNet Drinking Water Report.

5900-30 Radnet Legacy Air Sample.

Respondents/affected entities: Volunteer collectors of milk, air, precipitation, and drinking water samples to support EPA's national environmental radiation monitoring network known as RadNet.

Respondent's obligation to respond: Voluntary.

Estimated number of respondents: 302 (total).

Frequency of response: Frequency varies according to medium being sampled: milk, quarterly; drinking water, quarterly; rain (precipitation), as events occur; and air, twice weekly.

Total estimated burden: 8243 hours (per year). Burden is defined at 5 CFR 1320.3(b).

Total estimated cost: $299,913 (per year), which includes no annualized capital or operation & maintenance costs.

Changes in the Estimates: There is a decrease of 467 hours in the total estimated respondent burden compared with the ICR currently approved by OMB. This decrease is a result of improved technology that reduces manual calculations for the real-time air monitors and allows some operations to be performed by EPA personnel at NAREL rather than requiring respondent time.

John Moses,
Director, Collection Strategies Division.

[FR Doc. 2013-14747 Filed 6-19-13; 8:45 am]

BILLING CODE 6560-50-P